DEPARTMENT OF AGRICULTURE

Food and Nutrition Service

Agency Information Collection Activities: Fourth Access, Participation, Eligibility, and Certification Study Series (APEC IV)

AGENCY: Food and Nutrition Service (FNS), USDA.

ACTION: Notice.

SUMMARY: In accordance with the Paperwork Reduction Act of 1995, this notice invites the general public and other public agencies to comment on this proposed information collection. This collection is a Reinstatement, with change, of a previously approved collection for which approval has expired (OMB Number 0584-0530, Discontinued: 10/31/2020); for the Fourth Access, Participation, Eligibility, and Certification Study Series (APEC IV).

DATES: Written comments must be received on or before October 4, 2021.

ADDRESSES: Comments may be sent to: Amy Rosenthal, Food and Nutrition Service, U.S. Department of Agriculture, 1320 Braddock Place, 5th floor, Alexandria, VA 22314. Comments may also be via email to Amy Rosenthal at amy.rosenthal@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Amy Rosenthal at amy.rosenthal@usda.gov, 703-305-2245.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Fourth Access, Participation, Eligibility, and Certification Study Series (APEC IV).

Form Number: Not applicable.

OMB Number: 0584-0530.

Expiration Date: Not Yet Determined.

Type of Request: Reinstatement, with change, of a previously approved collection for which approval has expired.

Abstract:

USDA's Food and Nutrition Service (FNS) depends upon the APEC study series to provide reliable, national estimates of errors and improper payments made to school districts in which the National School Lunch Program and School Breakfast Program are operated. This is the fourth study in the APEC series and it will provide the required information for school year (SY) 2023-2024.

Program errors fall into three broad categories: Certification (determining the eligibility of a student for a given level of reimbursement), aggregation (adding up all the meal counts by reimbursement category as they are transmitted through the claims process), and meal claiming (ensuring that meals claimed meet the meal pattern requirements). Certification and aggregation errors contribute to improper payments, while meal claiming error is an operational error that does not result in an improper payment. The majority of improper payments in the programs result from certification errors, while aggregation errors are relatively rare.

The Payment Integrity Information Act of 2019 (PIIA) requires that FNS identify and reduce improper payments in these programs, including both underpayments and overpayments. In order to comply with the law, programs must have a statistically valid rate of improper payment below 10 percent, and programs out of compliance with PIIA are subject to increased scrutiny and reporting requirements.

Beyond statutory improper payment reporting requirements, FNS recognizes the human and economic costs of program error. For example, certification error may result in children being certified at a lower or higher level than the one for which they qualify; aggregation error may cause school districts to receive a lower or higher reimbursement than they should have received; and meal claiming error may result in a participant receiving a less balanced and nutritious meal than they would have if the meal pattern was followed.

Although the APEC II and the forthcoming APEC III findings show substantial improvement in certain types of error since APEC I, there is an ongoing need to identify and correct sources of program error.

The specific study objectives of APEC IV are:

• Objective 1: Generate a national estimate of the annual amount of improper payments in the National School Lunch Program and School Breakfast Program based on SY 2023-2024 by replicating and refining the methodology used in prior APEC studies.

• Objective 2: Provide a robust examination of the relationship between error rates and student (household), school, and school food authority (SFA) characteristics.

• Objective 3: Conduct two sub-studies testing the effect that data collection methods have on responses.

○ Electronic Application Sub-study: Evaluate whether USDA's online application prototype with integrity features generates a more accurate and complete accounting of household size and income compared to other online application types and paper applications.

○ Mode Effect Sub-Study: Assess the effect of in-person versus telephone interviews on responses to the household survey.

Consistent with methodology used in the previous studies in the APEC series, we will collect data to address the study objectives using a multistage-clustered sample design, which will include:

• A nationally representative sample of SFAs in the contiguous 48 states and the District of Columbia;

• A stratified sample of schools within each SFA; and

• A random sample of students (households) within each sampled school that applied for free and reduced-price meals, were categorically eligible for free meals, or were directly certified for free meals.

APEC IV will collect data to measure certification, aggregation, and meal claiming errors via in-person visits to SFAs and schools and surveys of SFA directors and households. Data collection will include (a) abstraction from income eligibility applications and categorical eligibility records; (b) abstraction of meal count and claiming records from SFAs, schools, States, and FNS administrative data; (c) an online survey of SFA directors; (d) meal observations in schools; and (e) a telephone survey of households.

The analysis plan includes the following components: (a) Calculating error rates; (b) estimating improper payments; (c) comparisons to previous APEC estimates (APEC I, II, III); and (d) quantitative analyses to identify factors associated with errors. The calculation of estimates from APEC IV will include the incidence of error, the total dollar amount of error, and the dollar based error rate. The comparisons to prior APEC studies will include tests for significant changes over time. The quantitative analyses will examine the sources and causes of errors with a focus on identifying strategies for reducing errors.

Affected Public: Individuals/Households and State, Local, or Tribal Governments. Respondent groups identified include: (1) Child Nutrition State agencies, (2) SFAs, (3) schools, and (4) parents/guardians of sampled students that are either certified to receive a free or reduced price meal or who applied for but were denied benefits in SY 2023-24.

Estimated Number of Respondents: The estimated number of respondents is 13,068. This includes 5,210 responses and 7,858 non-responses. The number of unique respondents expected to provide data for this study are 4,112 households and 1,098 State and Local Governments (44 State Agencies, 295 SFAs, and 759 schools).

Estimated Number of Responses per Respondent: All respondents will be asked to respond to each specific data collection activity only once. The overall average number of responses per respondent across the entire collection is 5.14.

Estimated Total Annual Responses: The estimated number of total annual responses is 67,317.

Estimated Time per Response: The estimated time of response varies from 1 minute to 4 hours depending on the respondent group, as shown in the burden table below. The estimated time per response is 11.49 minutes (0.191 hours).

Estimated Total Annual Burden on Respondents: 12,851.4 hours. This includes 12,419.6 hours for respondents and 431.7 hours for non-respondents. See the table below for estimated total annual burden for each type of respondent.

BILLING CODE 3410-30-P

Timothy English,
Acting Administrator, Food and Nutrition Service.

[FR Doc. 2021-16642 Filed 8-3-21; 8:45 am]

BILLING CODE 3410-30-C